DEPARTMENT OF THE INTERIOR

National Park Service

[NPS-WASO-NRSS-EQD-SSB-NPS0033505; PX.XCOMP0134.00.1; OMB Control Number 1024-NEW]

Agency Information Collection Activities; National Park Service Recreation Fee Pricing Study Survey Pre-Test and Pilot

AGENCY: National Park Service, Interior.

ACTION: Notice of information Collection; request for comment.

SUMMARY: In accordance with the Paperwork Reduction Act of 1995, we, the National Park Service (NPS) are proposing a new information collection.

DATES: Interested persons are invited to submit comments on or before June 21, 2022.

ADDRESSES: Written comments and recommendations for the proposed information collection should be sent within 30 days of publication of this notice to www.reginfo.gov/public/do/PRAMain. Find this particular information collection by selecting “Currently under Review—Open for Public Comments” or by using the search function. Please provide a copy of your comments to Phadrea Ponds, NPS Information Collection Clearance Officer, 12201 Sunrise Valley Drive (MS-242) Reston, VA 20192; or by email at phadrea_ponds@nps.gov. Please reference Office of Management and Budget (OMB) Control Number 1024-NEW (RECFEE) in the subject line of your comments.

FOR FURTHER INFORMATION CONTACT: To request additional information about this ICR, contact Bret Meldrum, Chief, Social Science Program, at bret_meldrum@nps.gov (email); or 970-267-7295 (phone). Please reference OMB Control Number 1024-NEW (RECFEE) in the subject line of your comments. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), all information collections require approval under the PRA. As part of our continuing effort to reduce paperwork and respondent burdens, we invite the public and other Federal agencies to comment on new, proposed, revised, and continuing collections of information. This helps us assess the impact of our information collection requirements and minimize the public's reporting burden. It also helps the public understand our information collection requirements and provide the requested data in the desired format.

A Federal Register notice with a 60-day public comment period soliciting comments on this collection of information was published on August 2, 2021 (86 FR 41508). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The NPS is authorized by the Federal Lands Recreation Enhancement Act (FLREA; 16 U.S.C. 6801-6814) to collect and retain recreation fees, including entrance fees and amenity fees for certain facilities, equipment, and services (such as campgrounds). Recreation fees collected under FLREA are used for a variety of projects that enhance the visitor experience. The NPS is also mandated by 54 U.S.C. 100701 and 100702 to provide state-of-the-art management, protection, and interpretation of, and research on, the resources of the System that is enhanced by the availability and utilization of a broad program of the highest quality science and information.

The NPS intends to pilot test a general population survey of recent and potential park visitors to evaluate behavior under different entrance fee pricing models. The proposed information collection will inform the design and administration of a future survey that is intended to help determine revenue and access implications of different entrance fee rates and collection models. The pilot study options will include explorations in, at minimum—increases in entrance fees, different fee structures, and technology-based solutions for collecting entrance fees to make the entrance process more convenient and efficient for visitors. The first step in the process is to create and pretest survey questions. A pretest will be conducted to (1) validate the survey questions, (2) investigate various sampling methods, (3) estimate the respondent burden, and (4) determine the usability of the survey design. Following the pretest, a pilot survey will be administered nationwide to a sample of recent and potential park visitors. The pilot survey will be used to evaluate how visitors might respond to hypothetical questions regarding changes in entrance fees, fee structures, and technology-based solutions for collecting entrance fees. The pilot is designed to understand the effectiveness of the instrument and the response rates for the eventual final survey. A preliminary analysis of these results will demonstrate how different entrance fee rates and collection modes could affect revenue and visitor access. The data will allow the NPS to understand the degree of interest and methods-based considerations for a comprehensive study on fees with the intent of making more transparent and science-informed pricing decisions in the future.

Title of collection: National Park Service Recreation Fee Pricing Study Survey Pre-Test and Pilot.

OMB Control Number: 1024-NEW.

Form Number: None.

Type of Review: New.

Respondents/Affected Public: Individuals/households.

Respondent's Obligation: Voluntary.

Frequency of Collection: One-time.

Total Estimated Annual Respondents: 2,770.

Total Estimated Annual Responses: 641.

Estimated Completion Time per Response: 5 minutes to 30 minutes.

Total Annual Burden Hours: 275.

Total Estimated Annual Nonhour Burden Cost: None.

Respondents | Number of contacts | Number of completed responses | Estimated completion time (minutes) | Total burden (hours)
Pre-test
Past Visitors | 220 | 50 | 30 | 25
Future Visitors | 220 | 50 | 30 | 25
No Past or Future Visitation | 60 | 15 | 10 | 3
Subtotal | 500 | 115 |  | 53
Debriefing Interview | 20 | 16 | 30 | 8
Pilot
Past Visitors | 880 | 200 | 30 | 100
Future Visitors | 880 | 200 | 30 | 100
No Past or Future Visitation | 240 | 60 | 10 | 10
Subtotal | 2,000 | 460 |  | 210
Nonresponse Survey | 250 | 50 | 5 | 4
Total | 2,770 | 641 |  | 275

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2022-10861 Filed 5-19-22; 8:45 am]

BILLING CODE 4312-52-P